SMALL BUSINESS ADMINISTRATION

13 CFR Parts 107 and 121

SBA Small Business Investment Company (SBIC) Proposed Regulations Webinar

AGENCY: U.S. Small Business Administration (SBA).

ACTION: Notification of webinar on proposed regulations.

SUMMARY: The SBA is holding a webinar to update the public on proposed regulations to the Small Business Investment Company (SBIC) program contained in the proposed rule titled Small Business Investment Company Investment Diversification and Growth.

DATES: The public webinar will be held on Monday, 11/28/2022, from 4 to 5 p.m. Eastern Time.

ADDRESSES: The Small Business Investment Company Investment Diversification and Growth Proposed Regulations Webinar will be live streamed on Microsoft Teams for the public.

FOR FURTHER INFORMATION CONTACT: The meeting will be live streamed to the public, and anyone wishing to attend or needing accommodations because of a disability can contact Nathaniel Putnam, SBA, Office of Investment & Innovation (OII), (202)714-1632, nathaniel.putnam@sba.gov.

SUPPLEMENTARY INFORMATION:

I. Background

The U.S. Small Business Administration (“SBA” or “Agency”) is proposing to revise the regulations for the Small Business Investment Company (“SBIC”) program to significantly reduce barriers to program participation for new SBIC fund managers and funds investing in underserved communities and geographies, capital intensive investments, and technologies critical to national security and economic development. This proposed rule, Small Business Investment Company Investment Diversification and Growth, 87 FR 63436, introduces an additional type of SBIC (“Accrual SBICs”) to increase program investment diversification and patient capital financing for small businesses and modernize rules to lower financial barriers to program participation. This proposed rule will help SBA implement the Executive order (“E.O.”), Advancing Racial Equity and Support for Underserved Communities Through the Federal Government, by reducing financial and administrative barriers to participate in the SBIC program and modernizing the program's license offerings to align with a more diversified set of private funds investing in underserved small businesses. The proposed rule also incorporates the statutory requirements of the Spurring Business in Communities Act of 2017, which was enacted on December 19, 2018. More information about the proposed regulation can be found here.

II. Questions

For the public webinar, OII strongly encourages that questions be submitted in advance by November 25, 2022. Individuals may email investinnovate@sba.gov with subject line—“[Name/Organization] Question for 11/28/22 Public Webinar.” During the live event, attendees will be in listen-only mode and may submit additional questions via the Q&A Chat feature.

III. Comments on the Proposed Regulations

Comments on the proposed rule may be submitted on or before December 19th, 2022, at www.regulations.gov. SBA will analyze any written comments received and respond to all comments in the final rule. However, during the public webinar, SBA officials will not provide responses to public comment or suggestions on the proposed rule. SBA requests that commenters focus on SBA's October 19, 2022, proposed rulemaking and the impacted regulations therein. SBA requests that commenters do not raise issues pertaining to issues not covered under the proposed rule, or issues outside the scope of the rule.

IV. Information on Service for Individuals With Disabilities

For information on services for individuals with disabilities or to request special assistance contact Nathaniel Putnam at the telephone number or email address indicated under the FOR FURTHER INFORMATION CONTACT section of this notice.

Michele Schimpp,
Deputy Associate Administrator, Office of Investment & Innovation, U.S. Small Business Administration.

[FR Doc. 2022-24714 Filed 11-10-22; 8:45 am]

BILLING CODE 8026-09-P